DEPARTMENT OF DEFENSE

Department of the Air Force

HQ USAF Scientific Advisory Board

AGENCY: Department of the Air Force, DoD.

ACTION: Notice of meeting.

SUMMARY: Pursuant to Public Law 92-463, notice is hereby given of the forthcoming meeting of the Secretary's Advisory Group. The purpose of the meeting is to allow the SAB and study leadership to provide advice to the Secretary on short and long-term policy and strategy issues for the Air Force. Because classified and contractor-proprietary information will be discussed, this meeting will be closed to the public.

DATES: September 26, 2002.

ADDRESSES: Room 4E869, The Pentagon.

FOR FURTHER INFORMATION CONTACT: Major John Pernot, Air Force Scientific Advisory Board Secretariat, 1180 Air Force Pentagon, Rm 5D982, Washington DC 20330-1180, (703) 697-4811.

Pamela D. Fitzgerald,
Air Force Federal Register Liaison Officer.

[FR Doc. 02-23792 Filed 9-18-02; 8:45 am]

BILLING CODE 5001-05-P